DEPARTMENT OF ENERGY

Federal Energy Regulatory Commission

Notice of Commission or Commission Staff Attendance at Miso Meetings

The Federal Energy Regulatory Commission hereby gives notice that members of the Commission and Commission staff may attend the following MISO-related meetings:

• Advisory Committee (10:00 a.m.-3:00 p.m., Local Time)

○ February 25, 300 Bourbon St., New Orleans, LA

○ March 25

○ April 22

○ May 27

○ July 22

○ August 26, 350 Market St., St. Paul, MN

○ September 23

○ October 21, 3 Statehouse Plaza, Little Rock, AR

○ November 18

○ December 9

• Board of Directors Audit & Finance Committee

○ February 25, 300 Bourbon St., New Orleans, LA, (4:30 p.m.-6 p.m.)

○ April 16, (12:30 p.m.-2:30 p.m.)

○ August 26, 350 Market St., St. Paul, MN, (2:00 p.m.-3:30 p.m.)

○ September 24 (1:30 p.m.-3:30 p.m.)

○ October 21 (4:30 p.m.-6:00 p.m.)

• Board of Directors (8:30 a.m.-10:00 a.m., Local Time)

○ February 26, 300 Bourbon St., New Orleans, LA

○ April 23

○ June 18, 424 East Wisconsin Ave., Milwaukee, WI

○ August 27, 350 Market St., St. Paul, MN

○ October 22

○ December 10

• Board of Directors Markets Committee (8:00 a.m.-10:00 a.m., Local Time)

○ February 25, 300 Bourbon St., New Orleans, LA

○ March 25

○ April 22

○ May 20

○ June 17, 424 East Wisconsin Ave., Milwaukee, WI

○ July 29

○ August 26, 350 Market St., St. Paul, MN

○ September 23

○ October 21, 3 Statehouse Plaza, Little Rock, AR

○ November 18

○ December 9

• Board of Directors System Planning Committee

○ March 17 (2:00 p.m.-3:30 p.m.)

○ April 21 (3:00 p.m.-5:00 p.m.)

○ June 16, 424 East Wisconsin Ave., Milwaukee, WI, (9:00 a.m.-11:00 a.m.)

○ August 26, 350 Market St., St. Paul, MN, (4:00 p.m.-6:00 p.m.)

○ October 15, (12:30 p.m.-2:00 p.m.)

○ November 19 (1:00 p.m.-3:00 p.m.)

○ December 9 (3:30 p.m.-5:30 p.m.)

• MISO Informational Forum (3:00 p.m.-5:00 p.m., Local Time)

○ February 24, 300 Bourbon St., New Orleans, LA

○ March 24

○ April 21

○ May 26

○ July 21

○ August 25, 350 Market St., St. Paul, MN

○ October 20, 3 Statehouse Plaza, Little Rock, AR

○ November 17

○ December 15

• MISO Market Subcommittee (9:00 a.m.-4:00 p.m., Local Time)

○ March 3

○ March 31

○ April 28

○ June 2

○ July 7

○ August 4

○ September 1

○ September 29

○ October 27

○ December 1

• MISO Supply Adequacy Working Group (9:00 a.m.-5:00 p.m., Local Time)

○ March 5

○ April 2

○ April 30

○ June 4

○ July 9

○ August 6

○ September 3

○ October 1

○ October 29

○ December 3

• MISO Regional Expansion Criteria and Benefits Task Force (1:00 p.m.-4:00 p.m., Local Time except as noted)

○ March 19

○ April 13

○ May 14

○ June 25

○ July 30 (9:00 a.m.-12:00 p.m.)

○ October 12

• MISO Planning Advisory Committee (9:00 a.m.-5:00 p.m., Local Time)

○ March 18

○ April 15

○ May 13

○ June 24

○ July 29

○ August 19

○ September 16

○ October 14

○ November 11

○ December 16

Unless otherwise noted all of the meetings above will be held at: MISO Headquarters, 701 City Center Drive, 720 City Center Drive, and Carmel, IN 46032.

Further information may be found at www.misoenergy.org.

The above-referenced meetings are open to the public.

The discussions at each of the meetings described above may address matters at issue in the following proceedings:

Docket No. EL14-21, Southwest Power Pool, Inc. v. Midcontinent Independent System Operator, Inc.

Docket No. ER14-1174, Southwest Power Pool, Inc.

Docket No. ER14-2850, Southwest Power Pool, Inc.

Docket No. ER09-1431, Midwest Independent Transmission System Operator, Inc.

Docket No. ER11-3279, Midwest Independent Transmission System Operator, Inc.

Docket No. ER11-4081, Midwest Independent Transmission System Operator, Inc.

Docket No. ER12-678, Midwest Independent Transmission System Operator, Inc.

Docket No. ER12-2302, Midwest Independent Transmission System Operator, Inc.

Docket No. ER12-2706, Midwest Independent Transmission System Operator, Inc.

Docket No. EL13-13, ITC Midwest, LLC

Docket No. ER13-187, Midwest Independent Transmission System Operator, Inc.

Docket No. ER13-186, Midwest Independent Transmission System Operator, Inc.

Docket No. ER13-101, Midwest Independent Transmission System Operator, Inc.

Docket No. ER13-89, MidAmerican Energy Company

Docket No. ER12-1266, Midwest Independent Transmission System Operator, Inc.

Docket No. ER12-1265, Midwest Independent Transmission System Operator, Inc.

Docket No. ER12-1564, Midwest Independent Transmission System Operator, Inc.

Docket No. ER12-1194, Midwest Independent Transmission System Operator, Inc.

Docket No. ER12-971, Midwest Independent Transmission System Operator, Inc.

Docket No. ER08-925, Midwest Independent Transmission System Operator, Inc.

Docket No. ER12-309, Midwest Independent Transmission System Operator, Inc.

Docket No. ER12-480, Midwest Independent Transmission System Operator, Inc.

Docket No. ER12-2682, Midwest Independent Transmission System Operator, Inc.

Docket No. ER13-1924, Midcontinent Independent System Operator, Inc.

Docket No. ER13-1943, Midcontinent Independent System Operator, Inc.

Docket No. ER13-1944, Midcontinent Independent System Operator, Inc.

Docket No. ER13-1945, Midcontinent Independent System Operator, Inc.

Docket No. ER13-692, Midcontinent Independent System Operator, Inc.

Docket No. ER13-2375, Midcontinent Independent System Operator, Inc.

Docket No. ER13-2376, Midcontinent Independent System Operator, Inc.

Docket No. ER13-2379, Midcontinent Independent System Operator, Inc.

Docket No. ER13-2124, Midcontinent Independent System Operator, Inc.

Docket No. ER13-2295, Midcontinent Independent System Operator, Inc.

Docket No. ER13-2378, Midcontinent Independent System Operator, Inc.

Docket No. ER13-2337, Midcontinent Independent System Operator, Inc.

Docket No. EL13-88, Northern Indiana Public Service Corp. v Midcontinent Independent System Operator, Inc., et al.

Docket No. EL14-12, ABATE et al. v Midcontinent Independent System Operator, Inc., et al.

Docket No. AD12-16, Capacity Deliverability across the MISO/PJM Seam

Docket No. AD14-3, Coordination of Energy and Capacity across the MISO/PJM Seam

Docket No. ER13-1938, Midcontinent Independent System Operator, Inc.

Docket No. ER13-2468, Midcontinent Independent System Operator, Inc.

Docket No. ER13-2124, Midcontinent Independent System Operator, Inc.

Docket No. ER11-2059, Midwest Independent Transmission System Operator, Inc.

Docket No. ER14-1736, Midcontinent Independent System Operator, Inc.

Docket No. ER14-2605, Midcontinent Independent System Operator, Inc.

Docket No. ER14-1243, Midcontinent Independent System Operator, Inc.

Docket No. ER14-1725, Midcontinent Independent System Operator, Inc.

Docket No. ER14-2180, Midcontinent Independent System Operator, Inc.

Docket No. ER14-2862, Midcontinent Independent System Operator, Inc.

Docket No. ER14-2952, Midcontinent Independent System Operator, Inc.

Docket No. ER14-2599, Midcontinent Independent System Operator, Inc.

Docket No. ER14-2562, Midcontinent Independent System Operator, Inc.

Docket No. ER14-2156, Midcontinent Independent System Operator, Inc.

Docket No. ER14-2445, Midcontinent Independent System Operator, Inc.

Docket No. ER15-133, Midcontinent Independent System Operator, Inc.

Docket No. ER15-530, Midcontinent Independent System Operator, Inc.

Docket No. ER15-685, Midcontinent Independent System Operator, Inc.

Docket No. ER15-684, Midcontinent Independent System Operator, Inc.

Docket No. ER15-730, Midcontinent Independent System Operator, Inc.

Docket No. ER15-747, Midcontinent Independent System Operator, Inc.

Docket No. ER15-767, Midcontinent Independent System Operator, Inc.

Docket No. ER15-847, Midcontinent Independent System Operator, Inc.

Docket No. ER15-142, Midcontinent Independent System Operator, Inc.

Docket No. ER15-862, Midcontinent Independent System Operator, Inc.

Docket No. ER15-918, Midcontinent Independent System Operator, Inc.

Docket No. ER15-277, Midcontinent Independent System Operator, Inc.

Docket No. ER15-945, Midcontinent Independent System Operator, Inc.

Docket No. ER15-933, Midcontinent Independent System Operator, Inc.

Docket No. ER15-946, Midcontinent Independent System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: February 19, 2015.
Kimberly D. Bose,
Secretary.

[FR Doc. 2015-03996 Filed 2-25-15; 8:45 am]

BILLING CODE 6717-01-P